DEPARTMENT OF TRANSPORTATION

Federal Motor Carrier Safety Administration

[Docket No. FMCSA-2005-24231]

Hours of Service of Drivers: Withdrawal of Application for Exemption; FedEx Ground Package System, Inc.

AGENCY: Federal Motor Carrier Safety Administration (FMCSA), DOT.

ACTION: Notice of application for exemption; withdrawal.

SUMMARY: The FMCSA announces that it is withdrawing its notice of an application for exemption upon the request of the applicant, FedEx Ground Package System, Inc. (FedEx).

DATES: The notice of application with request for comments published on July 31, 2006 is withdrawn, effective immediately.

FOR FURTHER INFORMATION CONTACT: Mr. Thomas Yager, Chief, Driver and Carrier Operations Division, Office of Bus and Truck Standards and Operations, MC-PSD, Federal Motor Carrier Safety Administration, 400 Seventh Street, SW., Washington, DC 20590. Telephone: 202-366-4009. E-mail: MCPSD@dot.gov.

SUPPLEMENTARY INFORMATION: On July 31, 2006, FMCSA published a notice requesting public comment on FedEx's application for an exemption from certain hours-of-service requirements for truck drivers (71 FR 43277). FedEx sought a limited exemption from the definition of “on duty” under FMCSA's hours-of-service regulations governing drivers who operate commercial motor vehicles. FedEx subsequently withdrew its exemption application. The FedEx letter requesting withdrawal of this matter has been placed in the docket identified in the caption of this notice.

Issued on: September 15, 2006.
John H. Hill,
Administrator.

[FR Doc. 06-8123 Filed 9-22-06; 8:45 am]

BILLING CODE 4910-EX-P